DEPARTMENT OF TRANSPORTATION

Federal Aviation Administration

14 CFR Part 39

[Docket No. FAA-2015-3300; Directorate Identifier 2015-CE-024-AD; Amendment 38-18309; AD 2015-22-04]

RIN 2120-AA64

Airworthiness Directives; Fiberglas-Technik Rudolf Lindner GmbH & Co. KG Gliders

AGENCY: Federal Aviation Administration (FAA), Department of Transportation (DOT).

ACTION: Final rule.

SUMMARY: We are adopting a new airworthiness directive (AD) for all Fiberglas-Technik Rudolf Lindner GmbH & Co. KG Models G103 TWIN ASTIR, G103 TWIN II, and G103A TWIN II ACRO gliders. This AD results from mandatory continuing airworthiness information (MCAI) issued by an aviation authority of another country to identify and correct an unsafe condition on an aviation product. The MCAI describes the unsafe condition as a broken bell-crank installed in the air brake control system. We are issuing this AD to require actions to address the unsafe condition on these products.

DATES: This AD is effective December 4, 2015.

The Director of the Federal Register approved the incorporation by reference of certain publications listed in the AD as of December 4, 2015.

ADDRESSES: You may examine the AD docket on the Internet at http://www.regulations.gov by searching for and locating Docket No. FAA-2015-3300; or in person at Document Management Facility, U.S. Department of Transportation, Docket Operations, M-30, West Building Ground Floor, Room W12-140, 1200 New Jersey Avenue SE., Washington, DC 20590.

For service information identified in this AD, contact Fiberglas-Technik Rudolf Lindner GmbH & Co.KG, Steige 3, D-88487 Walpertshofen, Germany; phone: ++49 (0) 7353/22 43; fax: ++49 (0) 7353/30 96; email: info@LTB-Lindner.com; Internet: www.ltb-lindner.com. You may view this referenced service information at the FAA, Small Airplane Directorate, 901 Locust, Kansas City, Missouri 64106. For information on the availability of this material at the FAA, call (816) 329-4148. It is also available on the Internet at http://www.regulations.gov by searching for Docket No. FAA-2015-3300.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 to add an AD that would apply to all Fiberglas-Technik Rudolf Lindner GmbH & Co. KG Models G103 TWIN ASTIR, G103 TWIN II, and G103A TWIN II ACRO gliders. The NPRM was published in the Federal Register on August 10, 2015 (80 FR 47871). The NPRM proposed to correct an unsafe condition for the specified products and was based on mandatory continuing airworthiness information (MCAI) originated by an aviation authority of another country. The MCAI states:

A report was received concerning a broken bell-crank, installed in the air brake control circuit approximately 1.4 m outside the wing root rib of a GROB G 103 Twin II sailplane. Preliminary investigation results revealed additional cases of cracks on the same part, installed in the air brake control systems of the early Twin II type design.

The same bell-cranks are also installed at the same location in the control systems of other models belonging to the same type design (see list of affected models under Applicability).

This condition, if not detected and corrected, could lead to failure of the air brake system, possibly resulting in reduced control of the sailplane.

To address this potential unsafe condition, Fiberglas-Technik issued Technische Mitteilung (TM)/Service Bulletin (SB) TM-G08/SB-G08 (one document) and Anweisung (A)/Instructions (I) A/I-G08 (one document) to provide instructions for a check of the air brake locking forces, the inspection of the bell-crank and, if cracks are found, replacement of the bell-crank.

Additionally, TM-G07/SB-G07 (one document) and A/I-G07 (one document) provide instructions for the installation of inspection openings in the wing of GROB G 103 TWIN II and G 103 A TWIN II ACRO sailplanes to facilitate the inspection of the bell-crank. (For the TWIN ASTIR and TWIN ASTIR TRAINER sailplanes, such an opening is required by LBA AD 92-190/2 (GROB SB 315-45/2.) This installation is optional for sailplanes not exceeding the original intended life limit.

For the reason described above, this AD requires a check of the air brake locking forces, an inspection for cracks in the air brake control unit and, if cracks are found, replacement of the affected flight control system parts. This AD is a temporary measure and further AD action may follow.

The MCAI can be found in the AD docket on the Internet at http://www.regulations.gov/#!documentDetail;D=FAA-2015-3300-0003.

Comments

We gave the public the opportunity to participate in developing this AD. The following presents the comments received on the proposal and the FAA's response to each comment.

Request Credit for Certain Inspections Done Before AD Was Issued

William Tisdale requested that the AD give credit for inspections that were done following Fiberglas-Technik Rudolf Lindner Service Bulletin (SB-G08), Edition April 24, 2015; and Fiberglas-Technik Rudolf Lindner Anweisung (English translation: Instructions), (A/I-G08), Ausgabe (English translation: Edition) April 24, 2015, within the year before the AD being issued as meeting the initial inspection requirement for both the tension and crack inspection.

We infer that the commenter made this request in order to prevent duplication of work already done.

We agree with the commenter. In paragraph (f) of this AD, the first sentence reads, “Unless already done, do the following actions:.” This sentence gives compliance credit to owners/operators of the affected gliders for actions required by this AD that have already been done before the effective date of this AD, if done following the service information required by this AD.

Because the requested change is already part of this AD, we have not changed the final rule AD action based on this comment.

Request to Use Lighted Borescope To Inspect the Bell-Crank

William Tisdale requested the use of a lighted borescope from either the wing rib root or access through the spoiler box push rod opening to inspect the bell-crank.

We infer that the commenter wants us to incorporate into the AD an allowance to use a lighted borescope to do the inspection of the bell-crank installed in the air brake control system.

We agree with the commenter about using a lighted borescope for the inspection from the wing rib root as it is already allowed in Fiberglas-Technik Rudolf Lindner Service Bulletin (SB-G08), Edition April 24, 2015; and Fiberglas-Technik Rudolf Lindner Anweisung (English translation: Instructions), (A/I-G08), Ausgabe (English translation: Edition) April 24, 2015. In the service information it states, “This inspection is done using an endoscope or small camera working through the wing root rib or using a mirror when working through an inspecting opening.” An endoscope consists of an optical system with a high intensity light source and is sometimes referred to as a borescope.

We disagree with the commenter with using a lighted borescope to do the inspection by accessing the area through the spoiler box push rod opening since this procedure is not specified in the required service information. The commenter may request an alternative method of compliance (AMOC) for this process. The request, including all substantiating data, may be submitted following 14 CFR 39.19 as specified in paragraph (g)(1) of this AD.

Conclusion

We reviewed the relevant data, considered the comments received, and determined that air safety and the public interest require adopting the AD as proposed except for minor editorial changes. We have determined that these minor changes:

• Are consistent with the intent that was proposed in the NPRM (80 FR 47871, August 10, 2015) for correcting the unsafe condition; and

• Do not add any additional burden upon the public than was already proposed in the NPRM (80 FR 47871, August 10, 2015).

Related Service Information Under 1 CFR Part 51

We reviewed Fiberglas-Technik Rudolf Lindner Service Bulletin (SB-G08), Edition April 24, 2015; and Fiberglas-Technik Rudolf Lindner Anweisung/(English translation: Instructions), (A/I-G08), Ausgabe (English translation: Edition) April 24, 2015. The service information describes procedures for inspecting the air brake locking forces; inspecting the bell-crank; and, if cracks are found during the inspections, replacing the bell-crank. This service information is reasonably available because the interested parties have access to it through their normal course of business or by the means identified in the ADDRESSES section of the AD.

Interim Action

We consider this AD interim action. The design approval holder is working toward a terminating action for the repetitive inspections. We may take further AD action in the future.

Costs of Compliance

We estimate that this AD will affect 106 products of U.S. registry. We also estimate that it will take about 2 work-hours per product to comply with the basic requirements of this AD. The average labor rate is $85 per work-hour.

Based on these figures, we estimate the cost of this AD on U.S. operators to be $18,020, or $170 per product.

In addition, we estimate that any necessary follow-on actions will be as follows:

• Replacement of bell-crank will take about 5 work-hours per product. Required parts will cost about $566 for a total of $991 per product.

• Installation of optional inspection openings will take about 15 work-hours per product. Required parts will cost about $1,004 for a total of $2,279 per product.

We have no way of determining the number of products that may need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2015-3300; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2015-22-04 Fiberglas-Technik Rudolf Lindner GmbH & Co. KG: Amendment 38-18309; Docket No. FAA-2015-3300; Directorate Identifier 2015-CE-024-AD.

(a) Effective Date

This airworthiness directive (AD) becomes effective December 4, 2015.

(b) Affected ADs

None.

(c) Applicability

This AD applies to Fiberglas-Technik Rudolf Lindner GmbH & Co. KG Models G103 TWIN ASTIR, G103 TWIN II, and G103A TWIN II ACRO gliders, all manufacturer serial numbers, certificated in any category.

(d) Subject

Air Transport Association of America (ATA) Code 27: Flight Controls.

(e) Reason

This AD was prompted by mandatory continuing airworthiness information (MCAI) originated by an aviation authority of another country to identify and correct an unsafe condition on an aviation product. The MCAI describes the unsafe condition as a broken bell-crank installed in the air brake control system. We are issuing this AD to detect and correct a broken bell-crank which could lead to failure of the air brake system, possibly resulting in reduced control.

(f) Actions and Compliance

Unless already done, do the following actions:

(1) Within 30 days after December 4, 2015 (the effective date of this AD) and repetitively thereafter at intervals not to exceed 12 months, inspect the locking forces of the air brake control unit, and, if any discrepancy is found, before further flight, correct the locking forces. Do the inspection and correction of any discrepancy following the instructions of Fiberglas-Technik Rudolf Lindner Service Bulletin (SB-G08), Edition April 24, 2015; and Fiberglas-Technik Rudolf Lindner Anweisung (English translation: Instructions), (A/I-G08), Ausgabe (English translation: Edition) April 24, 2015.

Note 1 to paragraph (f)(1) of this AD: This service information contains German to English translation. The European Aviation Safety Agency (EASA) used the English translation in referencing the document. For enforceability purposes, we will refer to the Fiberglas-Technik Rudolf Lindner service information as it appears on the document.

(2) Within 60 days after December 4, 2015 (the effective date of this AD), inspect the bell-crank installed in the air brake control system, and, if any cracks are found, before further flight, replace the bell-crank with a serviceable part. Do the inspection and replacement following the instructions of Fiberglas-Technik Rudolf Lindner Service Bulletin (SB-G08), Edition April 24, 2015; and Fiberglas-Technik Rudolf Lindner Anweisung (English translation: Instructions), (A/I-G08), Ausgabe (English translation: Edition) April 24, 2015.

Note 2 to paragraph (f)(2) of this AD: In the lower wing surface inspection, openings near the bell-crank may be installed to simplify the inspection and make a possible replacement of the bell-crank possible. This optional installation is described in GROB Luft Und Raumfahrt Service Bulletin 315-45/2, dated December 21, 1995; and Fiberglas-Technik Rudolf Lindner Service Bulletin (SB-G07), Edition April 24, 2015.

(3) Within 30 days after replacing a bell-crank as required by paragraph (f)(2) of this AD or within the next 30 days after December 4, 2015 (the effective date of this AD), whichever occurs later, report the inspection results of the removed bell-crank to Fiberglas-Technik Rudolf Lindner GmbH & Co. KG. You may find contact information for Fiberglas-Technik Rudolf Lindner GmbH & Co. KG in paragraph (h) of this AD.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any glider to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No.: 2015-0116, dated June 24, 2015; GROB Luft Und Raumfahrt Service Bulletin 315-45/2, dated December 21, 1995; and Fiberglas-Technik Rudolf Lindner Service Bulletin (SB-G07), Edition April 24, 2015, for related information. You may examine the MCAI on the Internet at http://www.regulations.gov/#!documentDetail;D=FAA-2015-3300-0003.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Fiberglas-Technik Rudolf Lindner Service Bulletin (SB-G08), Edition April 24, 2015; and

(ii) Fiberglas-Technik Rudolf Lindner Anweisung (English translation: Instructions), (A/I-G08), Ausgabe (English translation: Edition) April 24, 2015.

(3) For Fiberglas-Technik Rudolf Lindner GmbH & Co. KG service information identified in this AD, contact Fiberglas-Technik Rudolf Lindner GmbH & Co. KG, Steige 3, D-88487 Walpertshofen, Germany; phone: ++49 (0) 7353/22 43; fax: ++49 (0) 7353/30 96; email: info@LTB-Lindner.com; Internet: http://www.ltb-lindner.com.

(4) You may view this service information at the FAA, Small Airplane Directorate, 901 Locust, Kansas City, Missouri 64106. For information on the availability of this material at the FAA, call (816) 329-4148. In addition, you can access this service information on the Internet at http://www.regulations.gov by searching for and locating Docket No. FAA-2015-3300.

(5) You may view this service information that is incorporated by reference at the National Archives and Records Administration (NARA). For information on the availability of this material at NARA, call 202-741-6030, or go to: http://www.archives.gov/federal-register/cfr/ibr-locations.html.

Issued in Kansas City, Missouri on October 22, 2015.
Melvin Johnson,
Acting Manager, Small Airplane Directorate, Aircraft Certification Service.

[FR Doc. 2015-27440 Filed 10-29-15; 8:45 am]

BILLING CODE 4910-13-P